DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Large Pelagic Fishing Survey.

Form Number(s): None.

OMB Approval Number: 0648-0380.

Type of Request: Regular submission.

Burden Hours: 4,689.

Number of Respondents: 18,000.

Average Hours per Response: Telephone survey, 8 minutes; dockside interview, 5 minutes and 1 minute and 30 seconds per interview telephone validation response; biological sampling, 1 minute; headboat captain telephone interview response, 4 minutes and 8 minutes per headboat at-sea survey response; North Carolina winter bluefin tuna dockside survey, 6 minutes; HMS characterization survey, 15 minutes.

Needs and Uses: The Large Pelagic Fishing Survey consists of dockside and telephone surveys of recreational anglers for large pelagic fish (tunas, sharks, and billfish) in the Atlantic Ocean. The survey provides the National Marine Fisheries Service (NMFS) with information to monitor catch of bluefin tuna and marlin. Catch monitoring in these fisheries and collection of catch and effort statistics for all pelagic fish is required under the Atlantic Tunas Convention Act and the Magnuson-Stevens Fishery Conservation and Management Act. The information collected is essential for the United States to meet its reporting obligations to the International Commission for the Conservation of Atlantic Tuna. Due to funding limitations the Large Pelagic Fishing Survey has only been conducted from Maine through Virginia in previous years. In 2008 NMFS proposes to conduct pilot studies to characterize the recreational large pelagic fisheries in the South Atlantic, Gulf of Mexico, and Caribbean regions.

Affected Public: Business or other for-profit organizations.

Frequency: Weekly, annually and on occasion.

Respondent's Obligation: Mandatory.

OMB Desk Officer: David Rostker, (202) 395-3897.

Copies of the above information collection proposal can be obtained by calling or writing Diana Hynek, Departmental Paperwork Clearance Officer, (202) 482-0266, Department of Commerce, Room 6625, 14th and Constitution Avenue, NW., Washington, DC 20230 (or via the Internet at dHynek@doc.gov).

Written comments and recommendations for the proposed information collection should be sent within 30 days of publication of this notice to David Rostker, OMB Desk Officer, FAX number (202) 395-7285, or David_Rostker@omb.eop.gov.

Dated: May 27, 2008.
Gwellnar Banks,
Management Analyst, Office of the Chief Information Officer.

[FR Doc. E8-12080 Filed 5-29-08; 8:45 am]

BILLING CODE 3510-22-P